FEDERAL COMMUNICATIONS COMMISSION

47 CFR Part 73

[DA 09-52; MB Docket No. 04-318; RM-11040]

Radio Broadcasting Service; Culebra and Vieques, PR

AGENCY: Federal Communications Commission.

ACTION: Final rule; denial of petition for reconsideration.

SUMMARY: The Audio Division, Media Bureau, has issued a Memorandum Opinion and Order that denies a Petition for Reconsideration filed by Western New Life, Inc. (“Petitioner”), permittee and operator by Special Temporary Authority (“STA”) of Station WJZG(FM), Channel 293A, Culebra, Puerto Rico, directed against the Report and Order in MB Docket No. 04-318. The Memorandum Opinion and Order denies Petitioner's request to substitute Channel 291A for Channel 254A at Culebra, Puerto Rico, in an attempt to obtain a permanent authorization for Station WJZG(FM). It also denies Petitioner's request to accommodate the foregoing allotment by deleting vacant Channel 291B at Vieques, Puerto Rico. Petitioner's alternative proposal to substitute Channel 254A for Channel 291B at Vieques so that Station WJZG(FM) could obtain a permanent authorization on Channel 291A at Culebra is also denied.

ADDRESSES: Secretary, Federal Communications Commission, 445 Twelfth Street, SW., Washington, DC 20554.

FOR FURTHER INFORMATION CONTACT: R. Barthen Gorman, Media Bureau, (202) 418-2180.

SUPPLEMENTARY INFORMATION: This is a synopsis of the Commission's Memorandum Opinion and Order, MB Docket No. 04-318, adopted January 14, 2009, and released January 16, 2009. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will not send a copy of this Memorandum Opinion and Order in a report to be sent to Congress and the Government Accountability Office pursuant to the Congressional Review Act, see 5 U.S.C. 801(a)(1)(A), because the petition for reconsideration was denied.

List of Subjects in 47 CFR Part 73

Radio, Radio broadcasting.

Federal Communications Commission.
John A. Karousos,
Assistant Chief, Audio Division, Media Bureau.

[FR Doc. E9-2395 Filed 2-4-09; 8:45 am]

BILLING CODE 6712-01-P